LEGAL SERVICES CORPORATION

Sunshine Act Meeting of the Board of Directors Operations & Regulations Committee

TIME AND DATE: The Operations and Regulations Committee of the Legal Services Corporation Board of Directors will meet on January 26, 2001. The meeting will begin at 1:00 p.m. and continue until the Committee concludes its agenda.

LOCATION: Embassy Suites Hotel, 300 Tallapoosa Street, Montgomery, AL.

STATUS OF MEETING: Open.

MATTERS TO BE CONSIDERED: 1. Approval of agenda.

2. Approval of the minutes of the Committee's meeting of November 10, 2000.

3. Consider and act on the Property Acquisition and Management Manual.

4. Consider and act on the Interim Report of the Regulations Review Task Force.

5. Consider and act on other business.

6. Public comment.

CONTACT PERSON FOR INFORMATION: Victor M. Fortuno, Vice President for Legal Affairs, General Counsel & Corporate Secretary, at (202) 336-8800.

SPECIAL NEEDS: Upon request, meeting notices will be made available in alternate formats to accommodate visual and hearing impairments. Individuals who have a disability and need an accommodation to attend the meeting may notify Elizabeth S-S Cushing, at (202) 336-8800.

Dated: January 18, 2001.
Victor M. Fortuno,
Vice President for Legal Affairs, General Counsel & Corporate Secretary.

[FR Doc. 01-2005 Filed 1-18-01; 2:50 pm]

BILLING CODE 7050-01-P